DEPARTMENT OF HOMELAND SECURITY

[DHS-2019-0024]

Notice of the President's National Security Telecommunications Advisory Committee Meeting

AGENCY: Cybersecurity and Infrastructure Security Agency (CISA), Department of Homeland Security (DHS).

ACTION: Notice of Federal Advisory Committee meeting; request for comments.

SUMMARY: As required by the Federal Advisory Committee Act (FACA), CISA announces a meeting of the President's National Security Telecommunications Advisory Committee (NSTAC). The meeting will be a joint session with the President's National Infrastructure Advisory Council (NIAC) and will allow NIAC and NSTAC members to discuss and coordinate critical infrastructure activities and pertinent Government cybersecurity initiatives and national security and emergency preparedness priorities with DHS leadership and other senior Government officials. The meeting will also allow NSTAC and NIAC members to engage in a collaborative discussion and provide feedback on each committee's examinations. This will be the first time that the committees have held a joint meeting. The NIAC has issued a separate, contemporaneous Federal Register notice announcing its participation in the joint meeting. CISA invites public comment on the agenda items to be considered by both committees at the meeting.

DATES:

Meeting Registration: Registration to attend the meeting in person must be received by 5:00 p.m. Eastern Time (ET) on June 5, 2019.

Public Comments: Written comments are due by 12:00 p.m. ET on June 12, 2019.

Meeting: The meeting will be held on June 13, 2019 from 8:30 a.m.-3:15 p.m. Pacific Time (PT).

ADDRESSES: The joint meeting will be held at Microsoft Studio H/1022-Chinook Facility, 3850 148th Ave. NE, Redmond, WA 98052.

Meeting Registration: To register, send an email to NSTAC@hq.dhs.gov. Include “NIAC/NSTAC Meeting Registration” in the subject line of the message. You may register either through the NIAC or NSTAC, but it is not necessary to register with both committees to attend the meeting.

Public Comments: Written comments may be submitted on the issues to be considered by the NIAC and NSTAC as described in the SUPPLEMENTARY INFORMATION section below. Any associated briefing materials for the public session of the meeting will be made publicly available at both of the following website: https://www.dhs.gov/national-infrastructure-advisory-councilandhttps://www.dhs.gov/cisa/national-security-telecommunications-advisory-committeeon Friday, May 30, 2019.

Comments identified by docket number “DHS-2019-0024” may be submitted by:

• Federal eRulemaking Portal: www.regulations.gov. Follow the instructions for submitting written comments.

Instructions: All submissions received must include the agency name and docket number for this notice. All written comments received will be posted without alteration at www.regulations.gov, including any personal information provided. For detailed instructions on sending comments and additional information on participating in the upcoming NIAC and NSTAC meeting, see the “PUBLIC PARTICIPATION” heading of the SUPPLEMENTARY INFORMATION section of this document.

Docket: For access to the docket and to read comments received, go to www.regulations.gov.

FOR FURTHER INFORMATION CONTACT: Helen Jackson, NSTAC Designated Federal Officer, 703-705-6276, helen.jackson@hq.dhs.gov.

SUPPLEMENTARY INFORMATION: Notice of this meeting is given under the FACA, 5 U.S.C. Appendix (Pub. L. 92-463). The NIAC provides the President, through the Secretary of Homeland Security, with advice on the security and resilience of the Nation's critical infrastructure sectors.¹ The NSTAC advises the President on matters related to National Security and Emergency Preparedness (NS/EP) telecommunications and cybersecurity policy.² The meeting will be the first joint meeting with the NIAC and will allow NIAC and NSTAC members to discuss and coordinate critical infrastructure activities and pertinent Government cybersecurity initiatives and NS/EP priorities with DHS leadership and other senior Government officials. The meeting will also allow NSTAC and NIAC members to engage in a collaborative discussion and provide feedback on each committee's examinations.

¹ The NIAC was established under Section 10 of E.O. 13231, 66 FR 53063 (Oct. 16, 2001) and was most recently amended and continued under E.O. 13811, 82 FR 46363 (Sep. 29, 2017).

² The NSTAC was established by E.O. 12382, 47 FR 40531 (Sept. 15, 1982), amended by E.O. 13286, 68 FR 10619 (Mar. 5, 2003), and most recently continued under E.O. 13811, 82 FR 46363 (Sept. 29, 2017).

Agenda: The NSTAC and NIAC will meet in an open session from 12:30 p.m.-3:15 p.m. on June 13, 2019, and receive remarks from DHS leadership and other senior Government officials regarding the Government's current cybersecurity initiatives and critical infrastructure priorities. The meeting will include a keynote address and a panel discussion on foreign economic industrial policies and the U.S. supply chain. Participants will also discuss advancing resiliency and fostering innovation in the Information and Communication Technology (ICT) ecosystem, which relates to the NSTAC's study examining what technology capabilities the United States needs to support robust and resilient networks and other NS/EP functions, and how the Government is managing risks associated with those dependencies.

The committees will also meet in a closed session from 8:30 a.m. to 11:30 a.m. to discuss adversarial threats to critical infrastructure and cybersecurity systems and potential NSTAC and NIAC study topics.

Basis for Closure: In accordance with 5 U.S.C. 552b(c)(9)(B), The Government in the Sunshine Act, it has been determined that two agenda items require closure because disclosure of the information that will be discussed would not be in the public interest.

Specifically, the agenda items include an adversarial threat discussion and a discussion of potential NSTAC and NIAC study topics. These discussions will address areas of critical cybersecurity vulnerabilities and critical infrastructure priorities for Government. Government officials will share data with NSTAC and NIAC members on initiatives, assessments, and future security requirements across public and private sector networks. The information will include specific vulnerabilities within cyberspace that affect the United States' ICT infrastructures and proposed mitigation strategies. Disclosure of this information to the public would provide adversaries with an incentive to focus on these vulnerabilities to increase attacks on the Nation's critical infrastructure and communications networks. As disclosure of this portion of the meeting is likely to significantly frustrate implementation of proposed DHS actions, it is required to be closed pursuant to 5 U.S.C. 552b(c)(9)(B).

Public Participation

Meeting Registration Information: Due to limited seating, requests to attend in person will be accepted and processed in the order in which they are received.

Public Comment: While this meeting is open to the public, participation in FACA deliberations are limited to council members. A public comment period will be held during the meeting from approximately 2:45 p.m.-3:15 p.m. PT. Speakers who wish to comment during the meeting must register in advance and can do so by emailing NSTAC@hq.dhs.gov no later than Wednesday, June 5, 2019, at 5:00 p.m. ET. You may register to comment either through the NIAC or NSTAC, but it is not necessary to register with both committees. Speakers are requested to limit their comments to three minutes. Please note that the public comment period may end before the time indicated, following the last call for comments.

Information on Services for Individuals With Disabilities: For information on facilities or services for individuals with disabilities or to request special assistance at the meeting, contact NSTAC@hq.dhs.gov as soon as possible.

Dated: May 21, 2019.
Sandra Benevides,
Alternate Designated Federal Officer, National Security Telecommunications Advisory Committee, Cybersecurity and Infrastructure Security Agency, Department of Homeland Security.

[FR Doc. 2019-10991 Filed 5-24-19; 8:45 am]

BILLING CODE 9110-9P-P